DEPARTMENT OF TRANSPORTATION

National Highway Traffic Safety Administration

49 CFR Part 541

[Docket No. NHTSA-2002-12497]

RIN 2127-A174

Federal Motor Vehicle Theft Prevention Standard; Final Listing of Model Year 2003 High-Theft Vehicle Lines

AGENCY: National Highway Traffic Safety Administration (NHTSA), Department of Transportation.

ACTION: Final rule.

SUMMARY: This final rule announces NHTSA's determination for model year (MY) 2003 high-theft vehicle lines that are subject to the parts-marking requirements of the Federal motor vehicle theft prevention standard, and high-theft MY 2003 lines that are exempted from the parts-marking requirements because the vehicles are equipped with antitheft devices determined to meet certain statutory criteria pursuant to the statute relating to motor vehicle theft prevention.

EFFECTIVE DATE: The amendment made by this final rule is effective July 1, 2002.

FOR FURTHER INFORMATION CONTACT: Ms. Rosalind Proctor, Consumer Programs Division, Office of Planning and Consumer Programs, NHTSA, 400 Seventh Street, SW., Washington, DC 20590. Ms. Proctor's telephone number is (202) 366-0846. Her fax number is (202) 493-2290.

SUPPLEMENTARY INFORMATION: The Anti Car Theft Act of 1992, Pub. L. 102-519, amended the law relating to the parts-marking of major component parts on designated high-theft vehicle lines and other motor vehicles. The Anti Car Theft Act amended the definition of “passenger motor vehicle” in 49 U.S.C. 33101(10) to include a “multipurpose passenger vehicle or light duty truck when that vehicle or truck is rated at not more than 6,000 pounds gross vehicle weight.” Since “passenger motor vehicle” was previously defined to include passenger cars only, the effect of the Anti Car Theft Act is that certain multipurpose passenger vehicle (MPV) and light-duty truck (LDT) lines may be determined to be high-theft vehicles subject to the Federal motor vehicle theft prevention standard (49 CFR part 541).

The purpose of the theft prevention standard is to reduce the incidence of motor vehicle theft by facilitating the tracing and recovery of parts from stolen vehicles. The standard seeks to facilitate such tracing by requiring that vehicle identification numbers (VINs), VIN derivative numbers, or other symbols be placed on major component vehicle parts. The theft prevention standard requires motor vehicle manufacturers to inscribe or affix VINs onto covered original equipment major component parts, and to inscribe or affix a symbol identifying the manufacturer and a common symbol identifying the replacement component parts for those original equipment parts, on all vehicle lines selected as high-theft.

The Anti Car Theft Act also amended 49 U.S.C. 33103 to require NHTSA to promulgate a parts-marking standard applicable to major parts installed by manufacturers of “passenger motor vehicles (other than light duty trucks) in not to exceed one-half of the lines not designated under 49 U.S.C. 33104 as high-theft lines.” Section 33103(a) further directed NHTSA to select only lines not designated under § 33104 of this title as high theft lines. NHTSA lists each of these selected lines in Appendix B to Part 541. Since § 33103 did not specify marking of replacement parts for below-median lines, the agency does not require marking of replacement parts for these lines. NHTSA published a final rule amending 49 CFR part 541 to include the definitions of MPV and LDT, and major component parts. See 59 FR 64164, [December 13, 1994.]

49 U.S.C. 33104(a)(3) specifies that NHTSA shall select high-theft vehicle lines, with the agreement of the manufacturer, if possible. Section 33104(d) provides that once a line has been designated as likely high-theft, it remains subject to the theft prevention standard unless that line is exempted under § 33106. Section 33106 provides that a manufacturer may petition to have a high-theft line exempted from the requirements of § 33104, if the line is equipped with an antitheft device as standard equipment. The exemption is granted if NHTSA determines that the antitheft device is likely to be as effective as compliance with the theft prevention standard in reducing and deterring motor vehicle thefts.

The agency annually publishes the names of the lines which were previously listed as high-theft, and the lines which are being listed for the first time and will be subject to the theft prevention standard beginning in a given model year. It also identifies those lines that are exempted from the theft prevention standard for a given model year under § 33104. Additionally, this listing identifies those lines (except light-duty trucks) in Appendix B to Part 541 that have theft rates below the 1990/1991 median theft rate but are subject to the requirements of this standard under § 33103.

On August 3, 2001, the final listing of high-theft lines for the MY 2002 vehicle lines was published in the Federal Register (66 FR 40622). The final listing identified four vehicle lines that were listed for the first time and became subject to the theft prevention standard beginning with the 2002 model year.

For MY 2003, the agency identified five new vehicle lines that are likely to be high-theft lines, in accordance with the procedures published in 49 CFR part 542. The new lines are the Honda Pilot, the Nissan Infiniti M45, the Subaru Baja, the Toyota Lexus GX 470 and the Toyota Matrix. The agency was also informed by General Motors that its Saturn SC vehicle line has been renamed the Saturn ION vehicle line beginning with the 2003 model year. In addition to these five vehicle lines, the list of high-theft vehicle lines includes all lines previously designated as high-theft and listed for prior model years.

Subsequent to publishing the MY 2002 final rule, the agency was informed by DaimlerChrysler, Inc., (Daimler/Chrysler) that its Jeep Cherokee vehicle line was replaced by the Jeep Liberty vehicle line beginning with the 2002 model year. Accordingly, Appendix A has also been amended to reflect these changes.

The list of lines that have been exempted by the agency from the parts-marking requirements of part 541 includes high-theft lines newly exempted in full beginning with MY 2003. The five vehicle lines newly exempted in full are the BMW (confidential nameplate) vehicle line which replaces its Z3 vehicle line, the General Motors Pontiac Grand Prix, the Isuzu Axiom, the Nissan Infiniti G35 and the Mazda 6 vehicle line. The vehicle lines listed as being subject to the parts-marking standard have previously been designated as high-theft lines in accordance with the procedures set forth in 49 CFR part 542. Under these procedures, manufacturers evaluate new vehicle lines to conclude whether those new lines are likely to be high theft. The manufacturer submits these evaluations and conclusions to the agency, which makes an independent evaluation; and, on a preliminary basis, determines whether the new line should be subject to the parts-marking requirements. NHTSA informs the manufacturer in writing of its evaluations and determinations, together with the factual information considered by the agency in making them. The manufacturer may request the agency to reconsider the preliminary determinations. Within 60 days of the receipt of these requests, the agency makes its final determination. NHTSA informs the manufacturer by letter of these determinations and its response to the request for reconsideration. If there is no request for reconsideration, the agency's determination becomes final 45 days after sending the letter with the preliminary determination. Each of the new lines on the high-theft list has been the subject of a final determination under either 49 U.S.C. 33103 or 33104.

The vehicle lines listed as being exempt from the standard have previously been exempted in accordance with the procedures of 49 CFR part 543 and 49 U.S.C. 33106.

Similarly, the low-theft lines listed as being subject to the parts-marking standard have previously been designated in accordance with the procedures set forth in 49 U.S.C. 33103.

Therefore, NHTSA finds for good cause that notice and opportunity for comment on these listings are unnecessary. Further, public comment on the listing of selections and exemptions is not contemplated by 49 U.S.C. Chapter 331.

For the same reasons, since this revised listing only informs the public of previous agency actions and does not impose additional obligations on any party, NHTSA finds for good cause that the amendment made by this notice should be effective as soon as it is published in the Federal Register.

Regulatory Impacts

1. Costs and Other Impacts

NHTSA has analyzed this rule and determined that it is not “significant” within the meaning of the Department of Transportation's regulatory policies and procedures. The agency has also considered this notice under Executive Order 12866. As already noted, the selections in this final rule have previously been made in accordance with the provisions of 49 U.S.C. 33104, and the manufacturers of the selected lines have already been informed that those lines are subject to the requirements of 49 CFR part 541 for MY 2003. Further, this listing does not actually exempt lines from the requirements of 49 CFR part 541; it only informs the general public of all such previously granted exemptions. Since the only purpose of this final listing is to inform the public of actions for MY 2003 that the agency has already taken, a full regulatory evaluation has not been prepared.

2. Regulatory Flexibility Act

The agency has also considered the effects of this listing under the Regulatory Flexibility Act. I hereby certify that this rule will not have a significant economic impact on a substantial number of small entities. As noted above, the effect of this final rule is simply to inform the public of those lines that are already subject to the requirements of 49 CFR part 541 for MY 2003. The agency believes that the listing of this information will not have any economic impact on small entities.

3. Environmental Impacts

In accordance with the National Environmental Policy Act of 1969, the agency has considered the environmental impacts of this rule, and determined that it will not have any significant impact on the quality of the human environment.

4. Federalism

This action has been analyzed in accordance with the principles and criteria contained in Executive Order 12612, and it has been determined that this final rule does not have sufficient Federalism implications to warrant the preparation of a Federalism Assessment.

5. Civil Justice Reform

This final rule does not have a retroactive effect. In accordance with § 33118 when the Theft Prevention Standard is in effect, a State or political subdivision of a State may not have a different motor vehicle theft prevention standard for a motor vehicle or major replacement part. 49 U.S.C. 33117 provides that judicial review of this rule may be obtained pursuant to 49 U.S.C. 32909. Section 32909 does not require submission of a petition for reconsideration or other administrative proceedings before parties may file suit in court.

List of Subjects in 49 CFR Part 541

Administrative practice and procedure, Labeling, Motor vehicles, Reporting and recordkeeping requirements.

In consideration of the foregoing, 49 CFR part 541 is amended as follows:

PART 541—[AMENDED]

1. The authority citation for part 541 continues to read as follows:

Authority: 49 U.S.C. 33102-33104 and 33106; delegation of authority at 49 CFR 1.50.

2. In Part 541, Appendices A and A-I, are revised to read as follows:

Appendix A to Part 541—Lines Subject to the Requirements of This Standard
Manufacturer | Subject lines
Alfa Romeo | Milano 161 164
BMW | Z3 Z8 6 Car Line
Consulier | Consulier GTP
Daewoo | Korando Musso (MPV) Nubira
Daimlerchrysler | Chrysler Cirrus Chrysler Fifth Avenue/Newport Chrysler Laser Chrysler LeBaron/Town & Country Chrysler LeBaron GTS Chrysler's TC Chrysler New Yorker Fifth Avenue Chrysler Sebring Chrysler Town & Country Dodge 600 Dodge Aries Dodge Avenger Dodge Colt Dodge Daytona Dodge Diplomat Dodge Lancer Dodge Neon Dodge Shadow Dodge Stratus Dodge Stealth Eagle Summit Eagle Talon Jeep Cherokee (MPV) Jeep Grand Cherokee (MPV) Jeep Liberty (MPV) ¹ Jeep Wrangler (MPV) Plymouth Caravelle Plymouth Colt Plymouth Laser Plymouth Gran Fury Plymouth Neon Plymouth Reliant Plymouth Sundance Plymouth Breeze
Ferrari | Mondial 8 328
Ford | Ford Aspire Ford Escort Ford Probe Ford Thunderbird Lincoln Continental Lincoln Mark Lincoln Town Car Mercury Capri Mercury Cougar Merkur Scorpio Merkur XR4Ti
General Motors | Buick Electra Buick Reatta Buick Skylark Chevrolet Malibu Chevrolet Nova Chevrolet Blazer (MPV) Chevrolet Prizm Chevrolet S-10 Pickup Geo Storm Chevrolet Tracker (MPV) GMC Jimmy (MPV) GMC Sonoma Pickup Oldsmobile Achieva (MYs 1997-1998) Oldsmobile Bravada Oldsmobile Cutlass Oldsmobile Cutlass Supreme (MYs 1988-1997) Oldsmobile Intrigue Pontiac Fiero Saturn Sports Coupe ² Saturn ION
Honda | Accord CRV (MPV) Odyssey (MPV) Passport Pilot (MPV) ³ Prelude S2000 Acura Integra Acura MDX (MPV) Acura RSX
Hyundai | Accent Sonata Tiburon
Isuzu | Amigo Impulse Rodeo Rodeo Sport Stylus Trooper/Trooper II VehiCross (MPV)
Jaguar | XJ
Kia Motors | Optima Rio Sephia (1998-2002) Spectra
Lotus | Elan
Maserati | Biturbo Quattroporte 228
Mazda | 626 MX-3 MX-5 Miata MX-6
Mercedes-Benz | 190 D-190 E 260E (1987-1989) 300 SE (1988-1991) 300 TD (1987) 300 SDL (1987) 300 SEL 350 SDL (1990-1991) 420 SEL (1987-1991) 560 SEL (1987-1991) 560 SEC (1987-1991) 560 SL
Mitsubishi | Cordia Eclipse Lancer Mirage Montero (MPV) Montero Sport (MPV) Tredia 3000GT
Nissan | 240SX Sentra/200SX Xterra Infiniti M45 ³
Peugeot | 405
Porsche | 924S
Subaru | XT SVX Baja ³ Forester Legacy
Suzuki | Aerio X90 (MPV) Sidekick (MYs 1997-1998) Vitara/Grand Vitara (MPV)
Toyota | Toyota 4-Runner (MPV) Toyota Avalon Toyota Camry Toyota Celica Toyota Corolla/Corolla Sport Toyota Echo Toyota Highlander (MPV) Toyota Matrix (MPV) ³ Toyota MR2 Toyota MR2 Spyder Toyota Prius Toyota RAV4 (MPV) Toyota Sienna (MPV) Toyota Tercel Lexus GX470 (MPV) ³ Lexus IS300 Lexus RX300 (MPV)
Volkswagen | Audi Quattro Volkswagen Scirocco
¹ Replaced the Jeep Cherokee in MY 2002.
² Renamed the Saturn ION beginning with MY 2003.
³ Lines added for MY 2003.

Appendix A-I To Part 541—High-Theft Lines With Antitheft Devices Which are Exempted From the Parts-Marking Requirements of This Standard Pursuant to 49 CFR Part 543
Manufacturer | Subject lines
Austin Rover | Sterling
BMW | MINI X5 (confidential nameplate) ¹ 3 Car Line 5 Car Line 7 Car Line 8 Car Line
Daimlerchrysler | Chrysler Conquest Chrysler Imperial
Ford | Mustang Mercury Sable Mercury Grand Marquis Taurus
General Motors | Buick LeSabre Buick Park Avenue Buick Regal/Century Buick Riviera Cadillac Allante Cadillac Deville Cadillac Seville Chevrolet Cavalier Chevrolet Corvette Chevrolet Impala/Monte Carlo Chevrolet Lumina/Monte Carlo (MYs 1996-1999) Chevrolet Malibu Chevrolet Venture Oldsmobile Alero Oldsmobile Aurora Oldsmobile Toronado Pontiac Bonneville Pontiac Grand Am Pontiac Grand Prix ¹ Pontiac Sunfire
Honda | Acura CL Acura Legend (MYs 1991-1996) Acura NSX Acura RL Acura SLX Acura TL Acura Vigor (MYs 1992-1995)
Isuzu | Axiom.¹ Impulse (MYs 1987-1991)
Jaguar | XK
Mazda ¹ | 6 929 RX-7 Millenia
Mercedes-BENZ | 124 Car Line (the models within this line are): 260E 300D 300E 300CE 300TE 400E 500E 129 Car Line (the models within this line are): 300SL 500SL 600SL SL320 SL500 SL600 202 Car Line (the models within this line are): C220 C230 C280 C36 C43
Mitsubishi | Galant Starion Diamante
Nissan | Nissan Altima Nissan Maxima Nissan Pathfinder Nissan 300ZX Infiniti G35 ¹ Infiniti I30 Infiniti J30 Infiniti M30 Infiniti QX4 Infiniti Q45
Porsche | 911 928 968 986 Boxster
Saab | 9-3 900 (1994-1998) 9000 (1989-1998)
Toyota | Toyota Supra Toyota Cressida Lexus ES Lexus GS Lexus LS Lexus SC
Volkswagen | Audi 5000S Audi 100/A6 Audi 200/S4/S6 Audi Allroad Quattro (MPV) Audi Cabriolet Volkswagen Cabrio Volkswagen Corrado Volkswagen Golf/GTI Volkswagen Jetta/Jetta III Volkswagen Passat
¹ Lines exempted in full beginning with MY 2003.

Issued on: June 26, 2002.
Stephen R. Kratzke,
Associate Administrator for Safety Performance Standards.

[FR Doc. 02-16472 Filed 6-28-02; 8:45 am]

BILLING CODE 4910-59-P